DEPARTMENT OF THE INTERIOR

Fish and Wildlife Service

DEPARTMENT OF COMMERCE

National Oceanic and Atmospheric Administration

50 CFR Part 402

[ID 092603B]

RIN 1018-AJ02; RIN 0648-AR05

National Marine Fisheries Service; Joint Counterpart Endangered Species Act Section 7 Consultation Regulations

AGENCIES: U.S. Fish and Wildlife Service, Interior; Bureau of Land Management, Interior; National Park Service, Interior; Bureau of Indian Affairs, Interior; Forest Service, Agriculture; National Marine Fisheries Service, National Oceanic and Atmospheric Administration, Commerce.

ACTION: Proposed rule; reopening of comment period and notice of availability of Environmental Assessment.

SUMMARY: We, the U.S. Fish and Wildlife Service and National Marine Fisheries Service, (Services) announce the reopening of the comment period for the proposed joint counterpart regulations and the availability of the Environmental Assessment for the Healthy Forests Initiative Counterpart Regulations. The Services are evaluating the environmental effects of establishing counterpart regulations pursuant to Section 7 of the Endangered Species Act of 1973, as amended (16 U.S.C. 1531 et seq.) (ESA). These counterpart regulations are being proposed in cooperation with the U.S. Department of Agriculture, Forest Service (FS) and the Department of the Interior's Bureau of Indian Affairs (BIA), Bureau of Land Management (BLM), and National Park Service (NPS) (jointly, Action Agencies). The proposal supports the President's Healthy Forests initiative and is intended to streamline ESA section 7 consultations on proposed projects that support the National Fire Plan (NFP).

We are reopening the comment period to allow all interested parties to comment simultaneously on the proposed rule and the associated Environmental Assessment. Comments previously submitted on the proposed rule that was published in the Federal Register on June 5, 2003 (68 FR 33805), need not be resubmitted as they will be incorporated into the public record as part of this reopened comment period and will be fully considered in the final rule.

DATES: Comments on this environmental assessment or the associated proposed rule must be received by November 10, 2003 to be considered in the final decision.

ADDRESSES: Electronic copies of this Environmental Assessment or the associated proposed rule may be obtained from the USFWS World Wide Web Consultation Home Page at: http://endangered.fws.gov/consultations/forestplan.html. Written copies of this Environmental Assessment or the associated proposed rule may be obtained from the Chief of the Division of Consultation, Habitat Conservation Planning, Recovery, and State Grants, United States Fish and Wildlife Service, 4401 North Fairfax Drive, Room 420, Arlington, Virginia 22203, or the Chief of the Endangered Species Division, Office of Protected Resources, National Marine Fisheries Service, 1315 East-West Highway, Silver Spring, Maryland 20910.

Comments or materials concerning the Environmental Assessment or the associated proposed rule should be sent to the Chief, Division of Consultation, Habitat Conservation Planning, Recovery and State Grants, U.S. Fish and Wildlife Service, 4401 North Fairfax Drive, Room 420, Arlington, Virginia 22203. Comments can also be accepted if submitted via e-mail to healthyforests@fws.gov. Comments and materials received in conjunction with this rulemaking will be available for inspection, by appointment, during normal business hours at the above address.

FOR FURTHER INFORMATION CONTACT: Patrick Leonard, Chief, Division of Consultation, Habitat Conservation Planning, Recovery and State Grants, at the above address (Telephone 703/358-2171, Facsimile 703/358-1735) or Phil Williams, Chief, Endangered Species Division, NMFS, 1315 East-West Highway, Silver Spring, MD 20910 (301/713-1401; facsimile 301/713-0376).

SUPPLEMENTARY INFORMATION:

Background

In response to several years of catastrophic wildland fires throughout the United States culminating in the particularly severe fire season of 2000, when over 6.5 million acres of wildland areas burned, President Clinton directed the Departments of the Interior and Agriculture to develop a report outlining a new approach to managing wildland fires and restoring fire-adapted ecosystems. The report, entitled Managing the Impact of Wildfires on Communities and the Environment, was issued September 8, 2000. This report set forth ways to reduce the impacts of fires on rural communities, a short-term plan for rehabilitation of fire-damaged ecosystems, and ways to limit the introduction of invasive species and address natural restoration processes. The report, and the accompanying budget requests, strategies, plans, and direction, have become known as the NFP. The NFP is intended to reduce risk to communities and natural resources from wildland fires through rehabilitation, restoration and maintenance of fire-adapted ecosystems, and by the reduction of accumulated fuels or highly combustible fuels on forests, woodlands, grasslands, and rangelands.

In August 2002, during another severe wildland fire season in which over 7.1 million acres of wildlands burned, President Bush announced the Healthy Forests Initiative. The initiative was intended to accelerate implementation of the fuels reduction and ecosystem restoration goals of the NFP in order to minimize the damage caused by catastrophic wildfires by reducing unnecessary regulatory obstacles that have at times delayed and frustrated active land management activities. As part of the initiative, the agencies were tasked with streamlining the section 7 consultation process for projects implementing the NFP.

The Action Agencies published a proposed rule to establish Joint Counterpart Endangered Species Act section 7 regulations on June 5, 2003 (68 FR 33805). The proposed counterpart regulations, authorized in general at 50 CFR 402.04, will provide an optional alternative to the existing section 7 consultation process described in 50 CFR part 402, subparts A and B. The counterpart regulations complement the general consultation regulations in part 402 by providing an alternative process for completing section 7 consultation for agency projects that authorize, fund, or carry out actions that support the NFP.

In the Environmental Assessment, we considered three alternatives that would streamline the consultation process. The Memorandum of Understanding/Programmatic consultation alternative was eliminated from further consideration. The no action alternative would keep the current section 7 consultation process in place. The preferred alternative is to finalize the proposed counterpart regulation. The proposed action is to establish an alternative consultation process that would eliminate the need to conduct informal consultation and eliminate the requirement to obtain written concurrence from the applicable Service for those NFP actions that the Action Agency determines are “not likely to adversely affect” (NLAA) any listed species or designated critical habitat.

Authority: The authority for this action is the Endangered Species Act of 1973, as amended (16 U.S.C. 1531 et seq.).

Dated: October 3, 2003.
Julie MacDonald,
Acting Assistant Secretary for Fish and Wildlife and Parks.
Dated: October 3, 2003.
William T. Hogarth,
Assistant Administrator for Fisheries, National Marine Fisheries Service.

[FR Doc. 03-25621 Filed 10-8-03; 8:45 am]

BILLING CODE 3510-22-P; 4310-55-P